DEPARTMENT OF DEFENSE

Department of the Army; Corps of Engineers

Draft Environmental Impact Statement for the Proposed Royal D'Iberville Hotel and Casino Development, City of D'Iberville, Harrison County, MS

AGENCY: Department of the Army, U.S. Army Corps of Engineers, DoD.

ACTION: Notice of availability.

SUMMARY: This notice of availability announces the public release of the Draft Environmental Impact Statement (DEIS) for the Proposed Royal D'Iberville Hotel and Casino Development, City of D'Iberville, Harrison County, MS. On February 23, 1998, Royal D'Iberville, Inc. submitted a Joint Permit Application and Notification to the U.S. Army Corps of Engineers (Corps), Mobile District, the Mississippi Department of Environmental Quality, Office of Pollution Control and the Mississippi Department of Marine Resources for the D'Iberville project. The proposed action involves the construction of a dockside casino adjacent to the west side of the I-110 bridge over the Back Bay of Biloxi in D'Iberville, Harrison County, Mississippi. Based on a review of the level of impacts associated with the proposed action, the Mobile District published in Federal Register, November 21, 2001 (66 FR 58459), a notice of intent to prepare a DEIS for the proposed Royal D'Iberville Casino and Hotel, located in D'Iberville, Harrison County, MS. This DEIS has been developed by the Corps (lead agency) and 10 cooperating Federal and state agencies. The DEIS provides a comprehensive environmental analysis to aid in the decision-making process to deny or approve the Department of the Army permit for the proposed D'Iberville Hotel and Casino Project.

DATES: The public comment period for the DEIS will extend through June 30, 2003.

ADDRESSES: To receive a copy of the DEIS, or to submit comments, contact U.S. Army Corps of Engineers, Mobile District, Coastal Environment Team, Post Office Box 2288, Mobile, AL 36628-0001. A copy of the full document may also be viewed in the Gulfport Public Library, Gulfport, the Margaret Sherry Memorial Library in Biloxi, the D'Iberville Public Library in D'Iberville, or in the Mobile District.

FOR FURTHER INFORMATION CONTACT: Susan Ivester Rees, Ph.D., EIS Manager, (334) 694-4141, facsimile number (334) 690-2727 or e-mail address (susan.i.rees@sam.usace.army.mil).

SUPPLEMENTARY INFORMATION: Public comments can be submitted through a variety of methods. Written comments may be submitted to the Corps by mail, facsimile, or electronic methods, comments (written or oral) may be presented at a public meeting to be scheduled during the month of June in D'Iberville, MS. Additional information on these meetings will be mailed in a public notice to the agencies and public and announced in news releases.

Dated: May 5, 2003.
Ronald A. Krizman,
Chief, Regulatory Branch.

[FR Doc. 03-12156 Filed 5-14-03; 8:45 am]

BILLING CODE 3710-CR-M